DEPARTMENT OF THE INTERIOR

Bureau of Reclamation

Keechelus Dam Safety of Dams Modification, Yakima Project, Washington

AGENCY: Bureau of Reclamation, Interior.

ACTION: Notice of Availability of the Record of Decision for the Keechelus Dam Safety of Dams Modification, Yakima Project, Washington.

SUMMARY: Pursuant to section 102(2)(C) of the National Environmental Policy Act of 1969, as amended, the Department of the Interior, Bureau of Reclamation (Reclamation), has prepared a Record of Decision identifying the alternative to be implemented for the Keechelus Dam Safety of Dams Modification Project, located in the Yakima River basin in central Washington. The project is the subject of the Final Environmental Impact Statement (FEIS), INT-FES-01-29, Federal Register Notice of Availability, dated September 25, 2001 (66 FR 49039, Sep. 25, 2001).

The decision is to proceed with the preferred alternative to modify Keechelus Dam along the existing alignment to correct identified safety deficiencies as documented in the FEIS. In addition, Reclamation will seek funding under existing authorities to conduct a feasibility study for fish passage at all of the storage dams which are part of the Yakima Project.

ADDRESSES: Copies of the ROD are available for public inspection and review at the following locations:

• Bureau of Reclamation, U.S. Department of the Interior, Room 7455, 18th and C Streets NW., Washington, DC 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

Libraries

Carpenter Memorial Library, 302 N Pennsylvania Ave., Cle Elum, WA 98922; (509) 674-2313

Central Washington University Library, 700 E 8th Ave., Ellensburg WA 98926; (509) 963-1777

Ellensburg Public Library, 209 N Ruby, Ellensburg WA 98926; (509) 962-7250

Yakima Valley Regional Library, 102 N 3rd St, Yakima WA 98901; (509) 452-8541

University of Washington Campus, Suzzallo Library, Government Publications Division, Seattle WA 98195; (206) 543-1937

Internet

The ROD is also available on the Internet at: http://www.pn.usbr.gov/.

FOR FURTHER INFORMATION CONTACT: Mr. Dave Kaumheimer at (509) 575-5848, extension 232. Those wishing to obtain a copy of the ROD in the form of a printed document may contact Mr. Kaumheimer.

SUPPLEMENTARY INFORMATION: Keechelus Dam was completed in 1917 as part of Reclamation's Yakima Project, storing Yakima River water in central Washington for irrigation as part of 443,400 acres of prime farmland and for flood control. Recent investigations have shown that the wooden railroad trestle, used to deliver earth material and rocks while constructing the dam, has deteriorated, forming vertical paths where earthen materials within the dam can move, leaving voids in the dam. Examination of the seepage problems indicates the material is internally unstable and is subject to failure, with an associated potential for loss of life and property downstream. Because of the deficiencies identified, Keechelus Lake has been operated at a restricted pool elevation 7 feet below the normal full pool elevation of 2517 feet since November 1998, with increased monitoring and surveillance at the dam. This was identified as the No Action alternative in the FEIS, and elevation 2510 was used in comparing impacts of the other alternatives.

The Safety of Dams Act of 1978 (Pub. L. 95-578) and amendments of 1984 (Pub. L. 98-404) authorize the Secretary of the Interior to analyze existing Reclamation dams for changes in the state-of-the-art criteria and additional hydrologic and seismic data developed since the dams were constructed. For dams where a safety concern exists, the Secretary is authorized to modify the structure to ensure its continued safety. Section 3 of the Safety of Dams Act states that construction authorized by the Act shall be for dam safety and not for specific purposes of providing additional conservation storage capacity or developing benefits over and above those provided by the original dams and reservoirs.

Dated: January 18, 2002.
J. William McDonald,
Regional Director, Pacific Northwest Region.

[FR Doc. 02-4692 Filed 2-27-02; 8:45 am]

BILLING CODE 4310-MN-P